COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and services to the Procurement List that will be furnished by nonprofit agencies employing persons who are blind or have other severe disabilities, and deletes products previously provided by such agencies.

DATES: Comments must be received on or before: January 14, 2018.

ADDRESSES: Committee for Purchase from People Who Are Blind or Severely Disabled, 1401 S. Clark Street, Suite 715, Arlington, Virginia 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

NSN(s)—Product Name(s):

MR 13100—Baking Value Pack

MR 13101—Muffin Pan, 6-Cup

MR 13102—Cake Pan, Square, 8″ x 8″

MR 13103—Cake Pan, Round, 9″

MR 13104—Muffin Pan, 12-Cup

MR 13105—Muffin Pan, Mini, 24-Cup

MR 13106—Cookie Sheet, Large, 11″ x 17″

MR 13107—Loaf Pan, 9.3″ x 5.3″

MR 13108—Cookie Sheet, Medium, 10″ x 15″

MR 13109—Cookie Tool, Scoop N' Cut

MR 13110—Cake Cutter, Slice N' Easy

MR 13111—Cookie Spatula, Slip N' Serve

MR 13112—Cookie Sheet, Small, 9″ x 13″

Mandatory for: The requirements of military commissaries and exchanges in accordance with the Code of Federal Regulations 41 CFR 51-6.4.

Mandatory Source(s) of Supply: Winston-Salem Industries for the Blind, Inc., Winston-Salem, NC

Contracting Activity: Defense Commissary Agency

Distribution: C-List

Services

Service Type: Grounds Maintenance Service

Mandatory for: US Coast Guard Station Atlantic City, 900 Beach Thorofare, Atlantic City, NJ

Mandatory Source(s) of Supply: Fedcap Rehabilitation Services, Inc., New York, NY

Contracting Activity: Department of Homeland Security, US Coast Guard, TRACEN CAPE MAY (00042)

Service Type: Custodial Service

Mandatory for: US Customs and Border Protection, 6604 E. Rutter Ave., Hangar 32, Spokane, WA

Mandatory Source(s) of Supply: Good Works, Inc., Spokane, WA

Contracting Activity: Department of Homeland Security, US Customs and Border Protection, Air and Marine Ctr Div.

Deletions

The following products are proposed for deletion from the Procurement List:

Products

NSN—Product Name: 7510-01-600-8034—Dated 2017 12-Month 2-Sided Laminated Wall Planner, 24″ x 37″

Mandatory Source of Supply: Chicago Lighthouse Industries, Chicago, IL

Contracting Activity: General Services Administration, Philadelphia, PA

NSN—Product Name: 3990-00-NSH-0078—Pallet, Treated Wood, 70″ x 42″

Mandatory Source of Supply: Willamette Valley Rehab Center, Inc., Lebanon, OR

Contracting Activity: DEPT OF JUST/FEDERAL PRISON SYSTEM

NSNs—Product Names:

8415-01-542-8496—Jacket, Loft, Extreme Cold Weather Level 7, Type 2, PCU, Army, Alpha Green, MR

8415-01-542-8497—Jacket, Loft, Extreme Cold Weather Level 7, Type 1, PCU, Army, Alpha Green, LR

8415-01-542-8498—Jacket, Loft, Extreme Cold Weather Level 7, Type 2, PCU, Army, Alpha Green, XL

8415-01-542-8499—Jacket, Loft, Extreme Cold Weather Level 7, Type 2, PCU, Army, Alpha Green, LL

8415-01-542-8500—Jacket, Loft, Extreme Cold Weather Level 7, Type 2, PCU, Army, Alpha Green, XL

8415-01-542-8501—Jacket, Loft, Extreme Cold Weather Level 7, Type 2, PCU, Army, Alpha Green, XXLL

8415-01-542-8502—Jacket, Loft, Extreme Cold Weather Level 7, Type 2, PCU, Army, Alpha Green, XS

8415-01-542-8504—Jacket, Loft, Extreme Cold Weather Level 7, Type 1, PCU, Army, Alpha Green, LL

8415-01-542-8505—Jacket, Loft, Extreme Cold Weather Level 7, Type 2, PCU, Army, Alpha Green, XXXLL

8415-01-543-1605—Jacket, Loft, Extreme Cold Weather Level 7, PCU, Type 1, Army, Alpha Green, XXXL

8415-01-543-1613—Jacket, Loft, Extreme Cold Weather Level 7, Type 1, PCU, Army, Alpha Green, SR

8415-01-543-7042—Jacket, Loft, Extreme Cold Weather Level 7, Type 1, PCU, Army, Alpha Green, ML

8415-01-542-8575—Trousers, Loft Level 7, ECWCS, PCU, Army, Alpha Green, XXLL

8415-01-542-8576—Trousers, Loft Level 7, ECWCS, PCU, Army, Alpha Green, XXXLL

8415-01-542-8577—Trousers, Loft Level 7, ECWCS, PCU, Army, Alpha Green, XXXLL

8415-01-542-8580—Trousers, Loft Level 7, ECWCS, PCU, Army, Alpha Green, LL

8415-01-542-8581—Trousers, Loft Level 7, ECWCS, PCU, Army, Alpha Green, MR

8415-01-542-8582—Trousers, Loft Level 7, ECWCS, PCU, Army, Alpha Green, SR

8415-01-542-8584—Trousers, Loft Level 7, ECWCS, PCU, Army, Alpha Green, XL

8415-01-542-8586—Trousers, Loft Level 7, ECWCS, PCU, Army, Alpha Green, XXL

8415-01-542-8587—Trousers, Loft Level 7, ECWCS, PCU, Army, Alpha Green, XLL

8415-01-542-8588—Trousers, Loft Level 7, ECWCS, PCU, Army, Alpha Green, XS

8415-01-542-8589—Trousers, Loft Level 7, ECWCS, PCU, Army, Alpha Green, LR

8415-01-543-7022—Pants, Loft, Level 7, PCU, Army, Alpha Green, ML

8415-01-543-0377—Vest, Loft, Rainproof, Level 7, PCU, Army, Alpha Green, XXXLL

8415-01-543-0382—Vest, Loft, Rainproof, Level 7, PCU, Army, Alpha Green, XXL

8415-01-543-0384—Vest, Loft, Rainproof, Level 7, PCU, Army, Alpha Green, LR

8415-01-543-0386—Vest, Loft, Rainproof, Level 7, PCU, Army, Alpha Green, XXXLL

8415-01-543-0391—Vest, Loft, Level 7 Epic by Nextec, PCU, Army, Alpha Green, SR

8415-01-543-0392—Vest, Loft, Level 7 Epic by Nextec, PCU, Army, Alpha Green, MR

8415-01-543-0396—Vest, Loft, Rainproof, Level 7, PCU, Army, Alpha Green, LL

8415-01-543-0399—Vest, Loft, Rainproof, Level 7, PCU, Army, Alpha Green, XL

8415-01-543-0401—Vest, Loft, Rainproof, Level 7, PCU, Army, Alpha Green, XLL

8415-01-543-0403—Vest, Loft, Rainproof, Level 7, PCU, Army, Alpha Green, XXXLL

8415-01-543-0404—Vest, Loft, Level 7 Epic by Nextec, PCU, Army, Alpha Green, XS

8415-01-543-7044—PCU Level 7 Loft Vest Alpha Green ML

Mandatory Source of Supply: Southeastern Kentucky Rehabilitation Industries, Inc., Corbin, KY

8415-01-576-2044—Jacket, Wet Weather Level 6, PCU, Army, Men's, Desert Camouflage, XSR

8415-01-576-0098—Jacket, Wet Weather Level 6, PCU, Army, Men's, Desert Camouflage, MR

8415-01-576-2048—Jacket, Wet Weather Level 6, PCU, Army, Men's, Desert Camouflage, XXL

Mandatory Source of Supply: ReadyOne Industries, Inc., El Paso, TX

Contracting Activity: Army Contracting Command—Aberdeen Proving Ground, Natick Contracting Division

Amy B. Jensen,
Director, Business Operations.

[FR Doc. 2017-27083 Filed 12-14-17; 8:45 am]

BILLING CODE 6353-01-P